COMMISSION ON CIVIL RIGHTS

Agenda and Notice of Public Meeting of the Utah Advisory Committee

Notice is hereby given, pursuant to the provisions of the rules and regulations of the U.S. Commission on Civil Rights, that a planning meeting with briefing of the Utah State Advisory Committee will convene at 5:30 p.m. (MDT) and adjourn at 8:30 p.m. (MDT), Thursday, February 5, 2004, at the Horizonte School, 1234 S. Main Street, Salt Lake City, UT 84101. The purpose of the meeting with briefing is to plan future activities including the consideration of a regional project concerning discrimination against Native Americans in reservation border towns and to discuss other civil rights issues in the state.

Persons desiring additional information, or planning a presentation to the Committee, should contact John Dulles, Director of the Rocky Mountain Regional Office, (303) 866-1040 (TDD 303-866-1049). Hearing impaired persons who will attend the meeting and require the services of a sign language interpreter should contact the Regional Office at least ten (10) working days before the scheduled date of the meeting.

The meeting will be conducted pursuant to the provisions of the rules and regulations of the Commission.

Dated at Washington, DC, January 13, 2004.
Ivy L. Davis,
Chief, Regional Programs Coordination Unit.

[FR Doc. 04-1566 Filed 1-23-04; 8:45 am]

BILLING CODE 6335-01-P